DEPARTMENT OF JUSTICE

Drug Enforcement Administration

Serge V. Verne, D.D.S. Revocation of Registration

On October 30, 2003, the Deputy Assistant Administrator, Office of Diversion Control, Drug Enforcement Administration (DEA), issued an Order to Show Cause to Serge V. Verne, D.D.S. (Dr. Verne) at his registered location in San Diego, California, with a second copy sent to a location in Rancho Santa Fe, California. Dr. Verne was notified of an opportunity to show cause as to why DEA should not revoke his DEA Certificate of Registration, BV2328830, under 21 U.S.C. 824(a), and deny any pending applications for renewal or modification of that registration. Specifically, the Order to Show Cause alleged that Dr. Verne was without state license to handle controlled substances in the State of California. The Order to Show Cause also notified Dr. Verne that should no request for a hearing be filed within 30 days, his hearing right would be deemed waived.

As alluded to above, copies of the Order to Show Cause were sent by certified mail to Dr. Verne at two separate locations. According to the investigative file, the copy sent to the San Diego location was returned to DEA unclaimed, however, the second show cause order sent to the Rancho Santa Fe location was accepted on Dr. Verne's behalf on November 19, 2003. DEA has not received a request for hearing or any other reply from Dr. Verne or anyone purporting to represent him in this matter.

Therefore, the Deputy Administrator, finding that (1) 30 days have passed since the receipt of the Order to Show Cause, and (2) no request for a hearing having been received, concludes that Dr. Verne is deemed to have waived his hearing right. After considering material from the investigative file in this matter, the Deputy Administrator now enters her final order without a hearing pursuant to 21 CFR 1301.43(d) and (e) and 1301.46.

The Deputy Administrator finds that Dr. Verne is currently registered with DEA as a practitioner authorized to handle controlled substances in Schedules II through V. According to information in the investigative file, effective May 8, 2003, the Dental Board of California (Dental Board) ordered the revocation of Dr. Verne's license to practice dentistry in that state. The Dental Board's action was based in part upon findings that Dr. Verne provided false and misleading information regarding his continuing education, and his use of fraud in the procurement of his dental license and general anesthesia permit. There is no evidence before the Deputy Administrator to rebut findings that Dr. Verne's California dental license has been revoked and has not been reinstated. Therefore, the Deputy Administrator finds that since Dr. Verne is not currently authorized to practice dentistry in California, it is reasonable to infer that he is not authorized to handle controlled substances in that state.

DEA does not have statutory authority under the Controlled Substances Act to issue or maintain a registration if the applicant or registrant is without state authority to handle controlled substances in the state in which he conducts business. See 21 U.S.C. 802(21), 823(f) and 824(a)(3). This prerequisite has been consistently upheld. See Richard J. Clement, M.D., 68 FR 12,103 (2003); Dominick A. Ricci, M.D., 58 FR 51,104 (1993); Bobby Watts, M.D., 53 FR 11,919 (1988).

Here, it is clear that Dr. Verne is not licensed to handle controlled substances in California, where he is registered with DEA. Therefore, he is not entitled to maintain that registration.

Accordingly, the Deputy Administrator of the Drug Enforcement Administration, pursuant to the authority vested in her by 21 U.S.C. 823 and 824 and 28 CFR 0.100(b) and 0.104, hereby orders that DEA Certificate of Registration, BV2328830, issued to Serge V. Verne, D.D.S., be, and it hereby is, revoked. The Deputy Administrator further orders that any pending applications for renewal or modification of the aforementioned registration be, and hereby are, denied. This order is effective November 22, 2004.

Dated: October 5, 2004.
Michele M. Leonhart,
Deputy Administrator.

[FR Doc. 04-23716 Filed 10-21-04; 8:45 am]

BILLING CODE 4410-09-M